DEPARTMENT OF COMMERCE

National Oceanic and Atmospheric Administration

[RTID 0648-XD428]

Pacific Fishery Management Council; Public Meeting

AGENCY: National Marine Fisheries Service (NMFS), National Oceanic and Atmospheric Administration (NOAA), Commerce.

ACTION: Notice of a public online meeting.

SUMMARY: The Economics Subcommittee of the Pacific Fishery Management Council's (Pacific Council) Scientific and Statistical Committee (SSC) will convene an online meeting to review the economic analysis associated with sablefish gear switching alternatives being considered by the Pacific Council. The SSC Economics Subcommittee meeting is open to the public.

DATES: The SSC Economics Subcommittee meeting will be held Tuesday, October 24, 2023, from 1 p.m. until 5 p.m. (Pacific Daylight Time) or until business for the day has been completed.

ADDRESSES: The SSC Economics Subcommittee meeting will be conducted as an online meeting. Specific meeting information, including the agenda and directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The purpose of the SSC Economics Subcommittee meeting is to review the economic analysis associated with sablefish gear switching alternatives being considered by the Pacific Council. The Pacific Council has been in discussions related to limiting the use of non-trawl gear to target sablefish north of 36° N latitude in the trawl individual fishing quota (IFQ) fishery (gear switching), since 2017. At this point in the process, the SSC Economics Subcommittee plans to review the economic analysis for the current version of alternatives, as they have been modified notably over time.

No management actions will be decided by the meeting participants. The participants' role will be the development of recommendations and reports for consideration by the SSC and the Pacific Council at a future Pacific Council meeting. The Pacific Council and Scientific and Statistical Committee are scheduled to consider the sablefish gear switching alternatives at their November 2023 meeting in Garden Grove, CA.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: September 27, 2023.
Rey Israel Marquez,
Acting Deputy Director, Office of Sustainable Fisheries, National Marine Fisheries Service.

[FR Doc. 2023-21729 Filed 9-29-23; 8:45 am]

BILLING CODE 3510-22-P